DEPARTMENT OF THE TREASURY

Submission for OMB Review; Comment Request

June 27, 2013.

The Department of the Treasury will submit the following information collection request to the Office of Management and Budget (OMB) for review and clearance in accordance with the Paperwork Reduction Act of 1995, Public Law 104-13, on or after the date of publication of this notice.

DATES: Comments should be received on or before August 2, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Financial Crimes Enforcement Network (FinCEN)

OMB Number: 1506-0009.

Type of Review: Revision of a currently approved collection.

Title: Financial Record-keeping and Reporting and Report of Foreign Bank and Financial Accounts.

Form: FinCEN Form 114.

Abstract: The Bank Secrecy Act authorizes Treasury to require financial institutions and individuals to keep records and file reports that the Treasury determines have a high degree of usefulness in criminal, tax, or regulatory matters, or to protect against international terrorism. The information collected assist Federal, state and local law enforcement in the identification, investigation, and prosecution of individuals involved in money laundering, tax evasion, narcotics trafficking, organized crime, bank, securities, and tax fraud, embezzlement and other crimes. The information also assists in the conduct of financial supervision and other regulatory matters, and in tax collection and examination.

Affected Public: Private Sector: Businesses or other for-profits, Not-for-profit institutions; Individuals and households.

Estimated Annual Burden Hours: 685,000.

Dawn D. Wolfgang,
Treasury PRA Clearance Officer.

[FR Doc. 2013-15928 Filed 7-2-13; 8:45 am]

BILLING CODE 4810-02-P